SECURITIES AND EXCHANGE COMMISSION

Sunshine Act Meetings; Cancellation

FEDERAL REGISTER CITATION OF PREVIOUS ANNOUNCEMENT: 86 FR 22083, April 26, 2021.

PREVIOUSLY ANNOUNCED TIME AND DATE OF THE MEETING: Thursday, April 29, 2021 at 2:00 p.m.

CHANGES IN THE MEETING: The Closed Meeting scheduled for Thursday, April 29, 2021 at 2:00 p.m., has been cancelled.

CONTACT PERSON FOR MORE INFORMATION: For further information; please contact Vanessa A. Countryman from the Office of the Secretary at (202) 551-5400.

Dated: April 28, 2021.
Vanessa A. Countryman,
Secretary.

[FR Doc. 2021-09305 Filed 4-29-21; 11:15 am]

BILLING CODE 8011-01-P